FEDERAL MEDIATION AND CONCILIATION SERVICE

Arbitrators' Personal Data Questionnaire

AGENCY: Federal Mediation and Conciliation Service (FMCS).

ACTION: 60-Day Notice and request for comments.

SUMMARY: The Federal Mediation and Conciliation Service (FMCS), invites the general public and other Federal Agencies to take this opportunity to comment on the following information collection request, Arbitrator's Personal Data Questionnaire, (Agency Form R-22). This information collection request was previously approved by the Office of Management Budget (OMB) but has expired. FMCS is requesting a reinstatement without change. The Arbitrator's Personal Data Questionnaire, (Agency Form R-22), allows FMCS to comply with its statutory obligation pursuant to the statute, 29 U.S.C. 171(b), to make governmental facilities available for voluntary arbitration. To carry out this policy, FMCS have issued regulations, 29 CFR part 1404, which provide for the operation and maintenance of a roster of professional arbitrators. The arbitrators are private citizens, not employees of FMCS, and are paid by the parties for hearing and deciding the issues submitted under a collective bargaining agreement and in other circumstances. Applicants for listing on the roster submit an Arbitrator's Personal Data Questionnaire (Agency Form R-22) which is used by FMCS to evaluate their qualifications. This allows FMCS to be able to restrict its roster to qualified individuals only.

DATES: Comments must be submitted on or before May 23, 2022.

ADDRESSES: You may submit comments, identified by Arbitrator's Personal Data Questionnaire (Agency Form R-22), through one of the following methods:

• Email: Arthur Pearlstein, apearlstein@fmcs.gov;

• Mail: Arthur Pearlstein, HQ Office of Arbitration, One Independence Square, 250 E St. SW, Washington, DC 20427. Please note that at this time, the FMCS office is not open for visitors and mail is not checked daily. Therefore, we encourage emailed comments.

FOR FURTHER INFORMATION CONTACT: Arthur Pearlstein, 202-606-8103, apearlstein@fmcs.gov.

SUPPLEMENTARY INFORMATION: Copies of the agency form are available here. Paper copies are available from the Office of Arbitration Services by emailing Arthur Pearlstein at the email address above. Please ask for the Arbitrator's Personal Data Questionnaire (Agency Form R-22).

I. Information Collection Request

Agency: Federal Mediation and Conciliation Service.

Form Number: OMB No. 3076-0001.

Type of Request: Reinstatement without change of a previously approved collection.

Affected Entities: Individual who apply for admission to the FMCS Roster of Arbitrators.

Frequency: This form is completed once, which is at the time of application to the FMCS Roster of Arbitrators.

Abstract: Title II of the Labor Management Relations Act of 1947, 29 U.S.C. 171(b), provides that “the settlement of issues between employers and employees through collective bargaining may advance by making available full and adequate governmental facilities for conciliation, mediation, and voluntary arbitration . . .” 29 U.S.C. 171(b). Pursuant to the statute and 29 CFR part 1404, FMCS has long maintained a roster of qualified, private labor arbitrators to hear disputes arising under collective bargaining agreements and provide fact finding and interest arbitration. The existing regulation establishes the policy and administrative responsibility for the FMCS roster, criteria, procedures for listing and removing arbitrators, and procedures for using arbitration services.

Burden: The number of respondents is approximately 100 individuals per year, which is the approximate number of individuals who request membership on the FMCS Roster. The time required to complete this questionnaire is approximately one hour. Each respondent is required to respond only once per application and to update the information as necessary.

II. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

III. The Official Record

The official records are electronic records.

List of Subjects

Labor-Management Relations.

Dated: March 17, 2022.
Anna Davis,
Acting General Counsel.

[FR Doc. 2022-06071 Filed 3-21-22; 8:45 am]

BILLING CODE 6732-01-P